DEPARTMENT OF STATE

[Public Notice: 7176]

30-Day Notice of Proposed Information Collection: Form DS-156K, Nonimmigrant Fiance(e) Visa Application, OMB Control Number 1405-0096

ACTION: Notice of request for public comments.

SUMMARY: The Department of State has submitted the following information collection request to the Office of Management and Budget (OMB) for approval in accordance with the Paperwork Reduction Act of 1995.

• Title of Information Collection: Nonimmigrant Fiance(e) Visa Application.

• OMB Control Number: 1405-0096.

• Type of Request: Extension of a Currently Approved Collection.

• Originating Office: Bureau of Consular Affairs, Department of State (CA/VO).

• Form Number: DS-156K.

• Respondents: Aliens applying for a nonimmigrant visa to enter the U.S. as the fiancé(e) of a U.S. citizen

• Estimated Number of Respondents: 35,000.

• Estimated Number of Responses: 35,000.

• Average Hours per Response: 1 hour.

• Total Estimated Burden: 35,000 hours per year.

• Frequency: Once per respondent.

• Obligation to Respond: Required to Obtain or Retain a Benefit.

DATE(S): Submit comments to the Office of Management and Budget (OMB) for up to 30 days from September 21, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stefanie Claus in the Office of Visa Services, U.S. Department of State, 2401 E. Street, NW., L-603, Washington, DC 20522, who may be reached at (202) 663-2910.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection: Form DS-156K is used by consular officers to determine the eligibility of an alien applicant for a non-immigrant fiancé(e) visa.

Methodology: The DS-156K is submitted to consular posts abroad.

Dated: September 8, 2010.
David T. Donahue,
Deputy Assistant Secretary, Bureau of Consular Affairs, Department of State.

[FR Doc. 2010-23555 Filed 9-20-10; 8:45 am]

BILLING CODE 4710-06-P